DEPARTMENT OF AGRICULTURE

Forest Service

Hoosier National Forest, IN; Tell City Windthrow 2004 Project

AGENCY: Forest Service, USDA.

ACTION: Notice of intent to prepare an environmental impact statement.

SUMMARY: In accordance with the National Environmental Policy Act, notice is hereby given that the Forest Service, Tell City Ranger District of the Hoosier National Forest will prepare a Draft Environmental Impact Statement (EIS) to disclose the environmental consequences of the proposed Tell City Windthrow 2004 Project. On July 13, 2004, a severe storm producing winds at 70 to 80 miles per hour moved across southern Indiana. Heavy rain and high winds altered the stand structure of the forest with down and damaged trees. In the EIS, the USDA Forest Service will address the potential environmental impacts of salvage harvesting and prescribed burning. See the SUPPLEMENTARY INFORMATION section for the purpose and need of the action.

DATES: The public comment period will be for 30 days from the date this notice is published in the Federal Register. Comments and suggestions concerning the scope of the analysis should be submitted (postmarked) 30 days following this publication to ensure timely consideration. The draft environmental impact statement is expected in the fall of 2005, and the final environmental impact statement is expected in the winter of 2006.

ADDRESSES: Submit written or e-mail comments by: Mail-Tell City Windthrow 2004 Project, Attn: Mary Schoeppel, Tell City Ranger District, Tell City, IN 47586 or e-mail r9_hoosier_website@fs.fed.us. Please note: when commenting by e-mail, be sure to list Tell City Windthrow 2004 Project in the subject line and include a U.S. Postal Service address so we may add you to our mailing list.

FOR FURTHER INFORMATION CONTACT: Mary J. Schoeppel, project team leader at 812-547-7051. See the address above under ADDRESSES. Copies of documents may be requested at the same address. Another means of obtaining information is to visit the Forest Web page at http://www.fs.fed.us/r9/hoosier.

SUPPLEMENTARY INFORMATION:

Purpose and Need for Action

The primary purpose of this project is to implement management direction outlined in the Hoosier National Forest Land and Resource Management Plan while addressing site-specific needs and opportunities to move the project from the existing condition towards the desired condition. The following list describes the “needs for action” for the project to meet the purpose of implementing Forest Plan direction.

—Action is needed to address safety concerns along roads, trails, high use areas, and property boundaries.

—The risk of a wildland fire has increased as a result of the wind thrown timber. Many areas have down timber on greater than 50% of the identified area. Therefore, there is a need to improve public safety by reducing the potential for high-intensity fires to develop and spread. This can be accomplished by changing the horizontal continuity of fuels and reducing the amount of available fuel such as through prescribed burning.

—There is a need to salvage portions of the damaged area in a timely manner to capture timber product values that would be lost due to insect damage and decay with time.

—Salvage operations and prescribed burning would expedite the transition toward a more natural appearing landscape and help promote oak-hickory regeneration on the Forest, thus encouraging diversity of species.

—There is a need to provide timber to meet people's demand for wood products such as furniture, paper, fiber, and construction materials. The Forest Plan identifies areas suitable for timber production.

Proposed Action

The Forest proposes to salvage harvest trees that are recently down or leaning, severely damaged, or identified as hazard trees throughout the project area. Trees deemed hazardous are those that adversely affect public safety, including logging operations and management activities, facilities, and public visitors using the forest. Trees would be retained to provide wildlife habitat and long-term snag recruitment. Salvage activities would occur on approximately 3,100 acres.

This project proposes prescribed burning. General activities to be undertaken in preparing or executing prescribed fires could include fire line construction, hazard tree mitigation, and mop-up. Where possible, roads, trails, and streams would be used as natural breaks to minimize fire line construction. Any rehabilitation measures for fire lines would be determined by Forest Service specialists. All proposed prescribed fires would have a prescribed fire plan prior to the burn. This activity would occur on approximately 5,590 acres.

Road construction activities are anticipated on approximately 27 miles to facilitate the removal of salvage material and minimize resource damage. This could include road reconstruction and road maintenance on existing road corridors. Temporary roads may be built to minimize resource damage and later decommissioned.

Responsible Official

Kenneth G. Day, Forest Supervisor; Hoosier National Forest; 811 Constitution Avenue; Bedford, Indiana 47421.

Nature of Decision To Be Made

The decision to be made is whether the activities should proceed as proposed, proceed as modified by an alternative or be deferred at this time.

Scoping Process

The Hoosier National Forest proposes to scope for information by contacting persons and organizations on the Hoosier's mailing list and publishing a notice in the local newspaper. The present solicitation is for comments on this Notice of Intent and scoping material available elsewhere, such as on the Forest Web page.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 10, 2004.
Kenneth G. Day,
Forest Supervisor.

[FR Doc. 04-27591 Filed 12-16-04; 8:45 am]

BILLING CODE 3410-11-P